DEPARTMENT OF COMMERCE

National Oceanic and Atmospheric Administration

RIN 0648-XX76

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a meeting of the Vessel Monitoring System Advisory Panel.

DATES: The meeting will convene at 9 a.m. on Tuesday, August 11, 2010 and conclude by 3:30 p.m.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Dr. John Froeschke, Fishery Biologist; Gulf of Mexico Fishery Management Council; telephone: (813) 348-1630 x235.

SUPPLEMENTARY INFORMATION: The Vessel Monitoring System Advisory Panel will meet to discuss operation, design, agency usage of vessel monitoring systems (VMS), and resulting data from these systems. The meeting will begin with the election of a VMS Advisory Panel Chair and co-Chair. The VMS Advisory Panel will review technical issues with VMS and consider potential solutions. The Advisory Panel will also consider current and future VMS design to determine if existing systems are adequate in terms of ease-of-use, accuracy, and cost-effectiveness. The VMS Advisory panel will also discuss issues pertaining to data availability and distribution to ensure that VMS data are used appropriately and that the confidentially is preserved where appropriate. The meeting will conclude with a discussion of the potential role of VMS for verification of seafood origin. The meeting will conclude with draft recommendations presented to the Council at its August 19 - 19, 2010 meeting in Pensacola, FL.

Copies of the agenda and other related materials can be obtained by calling (813) 348-1630.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

The meeting is physically accessible to people with disabilities. Requests for sign language interpretation or other auxiliary aids should be directed to Tina O'Hern at the Council (see ADDRESSES) at least 5 working days prior to the meeting.

Dated: July 20, 2010.
Tracey L. Thompson,
Acting Director, Office of Sustainable Fisheries, National Marine Fisheries Service.

[FR Doc. 2010-18041 Filed 7-22-10; 8:45 am]

BILLING CODE 3510-22-S